DEPARTMENT OF ENERGY

Federal Energy Regulatory Commission

[Docket No. AD20-18-000]

Offshore Wind Integration in RTOs/ISOs; Notice of Technical Conference

Take notice that Federal Energy Regulatory Commission (Commission) staff will convene a technical conference to discuss whether existing Commission transmission, interconnection, and merchant transmission facility frameworks in RTOs/ISOs can accommodate anticipated growth in offshore wind generation in an efficient and effective manner that safeguards open access transmission principles and to consider possible changes or improvements to the current framework should they be needed to accommodate such growth. Commissioners may participate in the technical conference.

The technical conference will be held on Tuesday, October 27, 2020, from approximately 9:00 a.m. to 5:00 p.m. Eastern Time. The technical conference will be held either in-person at the Commission's headquarters at 888 First Street NE, Washington, DC 20426 in the Commission Meeting Room (with a WebEx option available) or solely electronically. A supplemental notice will be issued prior to the technical conference with further details regarding the agenda, whether it will be held in-person or electronically, and if there are changes to the date or time of the technical conference.

Individuals interested in participating as panelists should submit a self-nomination form by 5:00 p.m. on Friday, August 14, 2020 at: https://www.ferc.gov/whats-new/registration/10-27-20-speaker-form.asp. Individuals who are interested in registering for the conference can do so here: https://www.ferc.gov/whats-new/registration/10-27-20-form.asp.

The conference will be transcribed. Transcripts will be available for a fee from Ace Reporting (202-347-3700).

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact Ben Foster, 202-502-6149, ben.foster@ferc.gov, for technical questions, Rishi Garg, 202-502-8667, rishi.garg@ferc.gov, for legal questions, or Sarah McKinley, 202-502-8368, sarah.mckinley@ferc.gov for logistical issues.

Dated: June 17, 2020.
Nathaniel J. Davis, Sr.,
Deputy Secretary.

[FR Doc. 2020-13476 Filed 6-22-20; 8:45 am]

BILLING CODE 6717-01-P